DEPARTMENT OF ENERGY

Federal Energy Regulatory Commission

[Project No. 13702-002]

FFP Missouri 2, LLC; Notice of Application Ready for Environmental Analysis, and Soliciting Comments, Recommendations, Terms and Conditions, and Prescriptions

Take notice that the following hydroelectric application has been filed with the Commission and is available for public inspection.

a. Type of Application: Original Major License—Existing Dam.

b. Project No.: 13702-002.

c. Date filed: November 13, 2013.

d. Applicant: FFP Missouri 2, LLC.

e. Name of Project: Grenada Lake Hydroelectric Project.

f. Location: The proposed project would be located at the U.S. Army Corps of Engineers' (Corps) existing Grenada Lake Dam, on the Yalobusha River, near the Town of Grenada, Grenada County, Mississippi. The proposed project would occupy approximately 35.5 acres of federal land administered by the Corps.

g. Filed Pursuant to: Federal Power Act, 16 U.S.C. 791 (a)-825(r).

h. Applicant Contact: Ramya Swaminathan, Rye Development, 745 Atlantic Avenue, 8th Floor, Boston, MA 02111; telephone (617) 804-1326.

i. FERC Contact: Jeanne Edwards, telephone (202) 502-6181 and email jeanne.edwards@ferc.gov; or Patti Leppert, telephone (202) 502-6034 and email patricia.leppert@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13702-002.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The proposed Grenada Lake Project would utilize the following existing Corps' Grenada Lake Dam facilities: (1) A 13,900-foot-long, 80-foot-high earth fill embankment dam; (2) a reservoir; and (3) outlet works consisting of a concrete intake tower, three gated inlets that combine to direct flow through a 377.5-foot-long, 17-foot-diameter concrete outlet conduit, and a stilling basin.

The proposed Grenada Lake Project would consist of the following new facilities: (1) A 327.5-foot-long, 16-foot-diameter steel liner installed within the existing outlet conduit; (2) a 50-foot-long, variable width steel-lined, concrete bifurcation chamber containing two hydraulically-operated gates used to control the amount of flow diverted from the existing stilling basin to the powerhouse; (3) a 260-foot-long, 14-foot-diameter steel penstock; (4) a 78-foot wide, 50-foot-long, 86-foot-high steel and reinforced concrete forebay housing trashracks and a fish bypass outlet gate; (5) a 120-foot-long, 60-foot-wide concrete powerhouse containing two vertical Kaplan turbine-generator units having a combined installed capacity of 9.0 megawatts; (6) a 150-foot-long, 70-foot-wide tailrace; (7) a 670-foot-long, 4.16-kilovolt (kV) buried cable; (8) a substation; and (9) a 1,980-foot-long, 12.5-kV overhead transmission line extending from the substation to a utility-owned distribution line. The average annual generation would be 31,000 megawatt-hours.

m. A copy of the application is available for review at the Commission in the Public Reference Room, or may be viewed on the Commission's Web site at http://www.ferc.gov, using the “eLibrary” link. Enter the docket number, excluding the last three digits in the docket number field, to access the document. For assistance, contact FERC Online Support. A copy is available for inspection and reproduction at the address in item h above.

Register online at http://www.ferc.gov/docs-filing/esubscription.asp to be notified via email of new filings and issuances related to this or other pending projects. For assistance, contact FERC Online Support.

All filings must: (1) Bear in all capital letters the title “COMMENTS,” “REPLY COMMENTS,” “RECOMMENDATIONS,” “TERMS AND CONDITIONS,” or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

n. Procedural Schedule:

The application will be processed according to the following revised hydro licensing schedule. Revisions to the schedule may be made as appropriate.

Milestone | Target date
Filing of recommendations, terms and conditions, and prescriptions | May 2015.
Commission issues Draft EA | December 2015.
Comments on Draft EA Due | January 2016.
Commission Issues Final EA | May 2016.

o. Public notice of the filing of the initial development application, which has already been given, established the due date for filing competing applications or notices of intent. Under the Commission's regulations, any competing development application must be filed in response to and in compliance with public notice of the initial development application. No competing applications or notices of intent may be filed in response to this notice.

Dated: March 16, 2015.
Kimberly D. Bose,
Secretary.

[FR Doc. 2015-06524 Filed 3-20-15; 8:45 am]

BILLING CODE 6717-01P